ENVIRONMENTAL PROTECTION AGENCY

[OPP-2002-0247; FRL-7199-6]

Azinphos-Methyl; Receipt of Requests for Amendments to Delete Uses

AGENCY: Environmental Protection Agency (EPA).

ACTION: Notice.

SUMMARY: In accordance with section 6(f)(1) of the Federal Insecticide, Fungicide, and Rodenticide Act (FIFRA), as amended, EPA is issuing a notice of receipt of requests for amendments by registrants to delete uses in certain pesticide registrations. Section 6(f)(1) of FIFRA provides that a registrant of a pesticide product may at any time request that any of its pesticide registrations be amended to delete one or more uses. FIFRA further provides that, before acting on the request, EPA must publish a notice of receipt of any request in the Federal Register. In addition to announcing the use deletion requests, this Federal Register notice announces the Agency's intent to approve these requests and the commencement of a 30-day public comment period as required by section 6(f)(1) of FIFRA. If the Agency receives no comments that alter these requests, it will issue a Cancellation order prohibiting these uses from azinphos-methyl product registrations.

DATES: Comments, identified by docket ID number OPP-2002-0247, must be received on or before October 30, 2002.

The deletions will be effective with the issuance of a Cancellation order shortly after October 30, 2002, unless the Agency receives comments that alter these requests.

The Agency intends to prohibit all sale, distribution and use of existing stocks of manufacturing use products by registrants no later than 90-calender days after EPA approves revised labels reflecting the use deletions.

The Agency intends all sales and distributions by registrants of existing stocks of end-use products bearing labels with the deleted uses no later than 90-calender days after EPA approves revised labels reflecting the use deletions. The Agency does not intend to restrict the use of end-use products bearing the deleted uses.

ADDRESSES: Comments may be submitted electronically, by mail, or through hand delivery/courier. Follow the detailed instructions as provided in Unit I. of the SUPPLEMENTARY INFORMATION.

FOR FURTHER INFORMATION CONTACT: Veronique LaCapra, Special Review and Reregistration Division (7508C), Office of Pesticide Programs, Environmental Protection Agency, 1200 Pennsylvania Ave., NW., Washington, DC 20460-0001; telephone number: (703) 605-1525; fax number: (703) 308-8041; e-mail address: lacapra.veronique@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2002-0247. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and To Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. Once in the system, select “search,” and then key in docket ID number OPP-2002-0247. The system is an “anonymous access” system, which means EPA will not know your identity, e-mail address, or other contact information unless you provide it in the body of your comment.

ii. E-mail. Comments may be sent by e-mail to opp-docket@epa.gov, Attention: Docket ID Number OPP-2002-0247. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Public Information and Records Integrity Branch (PIRIB) (7502C), Office of Pesticide Programs (OPP), Environmental Protection Agency, 1200 Pennsylvania Ave., NW., Washington, DC 20460-0001, Attention: Docket ID Number OPP-2002-0247.

3. By hand delivery or courier. Deliver your comments to: Public Information and Records Integrity Branch (PIRIB), Office of Pesticide Programs (OPP), Environmental Protection Agency, Rm. 119, Crystal Mall #2, 1921 Jefferson Davis Hwy., Arlington, VA, Attention: Docket ID Number OPP-2002-0247. Such deliveries are only accepted during the docket's normal hours of operation as identified in Unit I.B.1.

D. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket ID number assigned to this action in the subject line on the first page of your response. You may also provide the name, date, and Federal Registercitation.

II. What Action is the Agency Taking?

This notice announces the amended registration requests by Bayer Corporation; Makhteshim Chemical Works, Ltd.; Gowan Company; Micro-Flo Corporation; and Platte Chemical Company for the deletion of certain uses from their products containing azinphos-methyl. The uses requested for deletion are: Alfalfa, beans (succulent and snap), birdsfoot trefoil, broccoli, cabbage (including Chinese), cauliflower, celery, citrus, clover, cucumbers, eggplant, filberts, grapes, melons (honeydew, muskmelon, canteloupe, watermelons, and other melons), onions (green and dry bulb), pecans, peppers, plums and dried plums, quince, spinach, strawberries, and tomatoes. In addition, the registrants waived the 180-day comment period for these use deletions.

Azinphos-methyl is an organophosphate insecticide registered for use on a wide variety of field crops, fruit, nuts, ornamental plants, and vegetables.

On May 22, 2002, Bayer Corporation; Makhteshim Chemical Works, Ltd.; Gowan Company; Micro-Flo Corporation; and Platte Chemical Company signed a Memorandum of Agreement (MOA) with EPA requesting cancellation pursuant to section 6(f) of FIFRA of all their registrations for products containing azinphos-methyl and used on the following crops: Alfalfa, beans (succulent and snap), birdsfoot trefoil, broccoli, cabbage (including Chinese), cauliflower, celery, citrus, clover, cucumbers, eggplant, filberts, grapes, melons (honeydew, muskmelon, canteloupe, watermelons, and other melons), onions (green and dry bulb), pecans, peppers, plums and dried plums, quince, spinach, strawberries, and tomatoes. This notice announces EPA's receipt of the use deletion requests and a 30-day public comment period to provide input regarding the requests. Based on extensive public input on azinphos-methyl received during the reregistration public participation process, the Agency believes that the impact to growers resulting from these use deletions will be minimal. Unless comments appreciably change the Agency's understanding of the impacts of the use deletions, it intends to accept the use deletion requests.

Table 1 includes the names and addresses of record for all registrants requesting use deletions of azinphos-methyl, in ascending sequence by EPA company number.

Table 1.—Azinphos-methyl Registrants
EPA Company No. | Company Name and Address
3125 | Bayer Corporation Agricultural Division 8400 Hawthorn Rd. P.O. Box 4913 Kansas City, MO 64120
10163 | Gowan Company P.O. Box 5569 Yuma, AZ 85366
11678 | Makhteshim Chemical Works, Ltd. c/o Makhteshim Agan of North America 551 Fifth Ave., Suite 1100 New York, NY 10176
34704 | Platte Chemical Company, Inc. 419 18th St. Greeley, CO 80631
51036 | Micro-Flo Corporation, LLC P.O. Box 772099 Memphis, TN 38117

III. What is the Agency Authority for Taking This Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Provisions for Disposition of Existing Stocks

The May 22, 2002, MOA specifies the disposition of existing stocks of products bearing any of the uses requested for deletion. If the Agency receives no comments that alter its intent to accept these use deletion requests, it will issue a Cancellation order with the existing stocks provisions discussed in this unit.

For the purpose of this notice, existing stocks refers to product that bears one or more of the uses listed in Unit II.

A. Manufacturing Use Products

The Agency intends to prohibit all sale, distribution and use of existing stocks of manufacturing use products by registrants no later than 90-calender days after EPA approves revised labels reflecting the use deletions.

B. End Use Products

The Agency intends to prohibit all sale and distribution by registrants of existing stocks of end-use products bearing labels with the deleted uses no later than 90-calender days after EPA approves revised labels reflecting the use deletions. The Agency does not intend to restrict the use of end-use products bearing the deleted uses.

List of Subjects

Environmental protection, Pesticides and pests.

Dated: September 17, 2002.
Lois A. Rossi,
Director, Special Review and Reregistration Division, Office of Pesticide Programs.

[FR Doc. 02-24771 Filed 9-27-02; 8:45 am]

BILLING CODE 6560-50-S